DEPARTMENT OF THE INTERIOR

U.S. Geological Survey

Public Review of Draft United States Thoroughfare, Landmark, and Postal Address Data Standard

AGENCY: Department of the Interior, U.S. Geological Survey.

ACTION: Notice; request for comments on draft United States Thoroughfare, Landmark, and Postal Address Data Standard through June 16, 2010.

SUMMARY: The Federal Geographic Data Committee (FGDC) is conducting a public review of the draft United States Thoroughfare, Landmark, and Postal Address Data Standard. The United States Thoroughfare, Landmark, and Postal Address Data Standard covers data content, data classification, data exchange, and data quality. The Urban and Regional Information Systems Association (URISA), in conjunction with the FGDC Subcommittee on Cultural and Demographic Statistics chaired by the U.S. Census Bureau, developed this draft standard. The FGDC Coordination Group, comprised of representatives of Federal agencies, approved releasing this draft standard for public review at its March 16, 2010 meeting. The FGDC invites both public and private sector data users, producers and software vendors to comment on this standard to ensure that the standard meets their needs.

The draft United States Thoroughfare, Landmark, and Postal Address Data Standard may be downloaded at: ftp://ftpext.usgs.gov/pub/er/va/reston/FGDC/AddressStandardJanuary_22_2010_formatted.doc (No user name or password required). Reviewer's comments shall be sent to Julie Binder Maitra, of the FGDC Secretariat via electronic mail, jmaitra@usgs.gov by June 16, 2010. Reviewers should follow Directive #2d, Standards Working Group Review Guidelines: Review Comment Template, http://www.fgdc.gov/standards/process/standards-directives/directive-2d-standards-working-group-review-guidelines-review-comment-template, when preparing their comments. The review comment template is available at http://www.fgdc.gov/standards/process/standards-directives/template.doc.

Comments that concern specific issues/changes/additions may result in revisions to the draft United States Thoroughfare, Landmark, and Postal Address Data Standard. After evaluation of comments, participants will receive written notification of how their comments were addressed by electronic or postal mail. After formal endorsement of the standard by the FGDC, the standard and a summary analysis of the changes will be made available to the public on the FGDC Web site.

DATES: Comments on the draft United States Thoroughfare, Landmark, and Postal Address Data Standard must be received by the FGDC on or before Wednesday, June 16, 2010.

FOR FURTHER INFORMATION CONTACT: Ms. Julie Binder Maitra, U.S. Geological Survey, Federal Geographic Data Committee, jmaitra@fgdc.gov, 703-648-4627.

SUPPLEMENTARY INFORMATION: The FGDC coordinates the development of the National Spatial Data Infrastructure (NSDI), which encompasses the policies, standards, and procedures for organizations to cooperatively produce and share geospatial data. Federal agencies that make up the FGDC develop the NSDI in cooperation with organizations from State, local and tribal governments, the academic community, and the private sector. Authority for the FGDC is OMB Circular No. A-16 Revised on Coordination of Geographic Information and Related Spatial Data Activities (Revised August 19, 2002). More information on the FGDC and the NSDI is available at http://www.fgdc.gov. Standards are a foundational component of the NSDI.

Organizations often have detailed specifications about the structure of their address information but have not defined the elements that constitute an address. Knowledge of structure, content, and quality is required to successfully share information in a digital environment. The United States Thoroughfare, Landmark, and Postal Address Data Standard codifies discrete elements of address information and provides standardized terminology and definitions to alleviate inconsistencies in the use of these elements and to simplify documentation.

The United States Thoroughfare, Landmark, and Postal Address Data Standard applies to addresses of entities having a spatial component. It does not apply to addresses of entities lacking a spatial component and specifically excludes electronic addresses such as e-mail addresses. It recognizes that some organizations are prohibited by statute from sharing addresses or other address information, due to requirements for confidentiality and security: Therefore, it does not require that addresses be shared and does not provide guidelines for determining whether addresses can be shared. The United States Thoroughfare, Landmark, and Postal Address Data Standard places no requirement on internal organization of use or structure of address data: however, its principles can be extended to all addresses.

Dated: March 18, 2010.
Ivan DeLoatch,
FGDC Executive Director.

[FR Doc. 2010-7438 Filed 4-1-10; 8:45 am]

BILLING CODE 4311-MM-P